DEPARTMENT OF AGRICULTURE

Agricultural Marketing Service

[Docket No. AMS-ST-18-0064]

Notice of Request for Revision of a Currently Approved Collection

AGENCY: Agricultural Marketing Service, USDA.

ACTION: Notice and request for comments.

SUMMARY: In accordance with the Paperwork Reduction Act of 1995, this notice announces the Agricultural Marketing Service's (AMS) intention to request approval from Office of Management and Budget (OMB) for an extension of and revision to the currently approved information collection “Application for Plant Variety Protection Certification and Objective Description of Variety.”

DATES: Comments must be received by October 12, 2018.

ADDRESSES: Interested persons are invited to submit comments concerning this notice by using the electronic process available at http://www.regulations.gov. Written comments may also be submitted to the Plant Variety Protection Office (PVPO), Science and Technology, Agricultural Marketing Service, USDA, 1400 Independence Avenue SW, Room 4512-S, Stop 0274, Washington, DC 20250 or by facsimile to (202) 260-8976. All comments should reference the docket number AMS-ST-18-0064, the date, and the page number of this issue of the Federal Register.

FOR FURTHER INFORMATION CONTACT: Bernadette Thomas, Information Technology Specialist, (202) 720-1168 or Bernadette.thomas@ams.usda.gov.

SUPPLEMENTARY INFORMATION:

Title: Regulations Governing the Application for Plant Variety Protection Certificate and Reporting Requirements under the Plant Variety Protection Act.

OMB Number: 0581-0055.

Expiration Date of Approval: December 31, 2018.

Type of Request: Extension and revision of a currently approved information collection.

Abstract: The Plant Variety Protection Act (PVPA) (7 U.S.C. 2321 et seq.) was established “To encourage the development of novel varieties of sexually reproduced plants and make them available to the public, providing protection available to those who breed, develop, or discover them, and thereby promote progress in agriculture in the public interest.”

The PVPA is a voluntary user funded program which grants intellectual property rights protection to breeders of new, distinct, uniform, and stable seed reproduced and tuber propagated plant varieties. To obtain these rights the applicant must provide information which shows the variety is eligible for protection and that it is indeed new, distinct, uniform, and stable as the law requires. Application forms, descriptive forms, and ownership forms are furnished to applicants to identify the information which is required to be furnished by the applicant in order to legally issue a certificate of protection (ownership). The certificate is based on claims of the breeder and cannot be issued on the basis of reports in publications not submitted by the applicant. Regulations implementing the PVPA appear at 7 CFR part 92.

Currently approved forms ST-470, Application for Plant Variety Protection Certificate, ST-470 A, Origin and Breeding History, ST-470 B, Statement of Distinctness, Form ST-470 series, Objective Description of Variety (Exhibit C), Form ST-470-E, Basis of Applicant's Ownership, are the basis by which the determination, by experts at PVPO, is made as to whether a new, distinct, uniform, and stable seed reproduced or tuber-propagated variety in fact exists and is entitled to protection.

The ST 470 application form combines Exhibits A, B, and E into one form. The information received on applications, with certain exceptions, is required by law to remain confidential until the certificate is issued (7 U.S.C. 2426).

The information collection requirements in this request are essential to carry out the intent of the PVPA, to provide applicants with certificates of protection, to provide the respondents the type of service they request, and to administer the program.

Estimate of Burden: Public reporting burden for this collection of information is estimated to average 1.02 hours per response.

Respondents: Businesses or other for-profit, not-for-profit institutions, and Federal Government.

Estimated Number of Respondents: 93.

Estimated Number of Responses per Respondent: 21.78.

Estimated Total Annual Burden on Respondents: 2,063 (rounded).

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All comments received will be available for public inspection during regular business hours.

All responses to this notice will be summarized and included in the request for OMB approval. All comments will become a matter of public record.

Dated: August 8, 2018.
Bruce Summers,
Administrator, Agricultural Marketing Service.

[FR Doc. 2018-17285 Filed 8-10-18; 8:45 am]

BILLING CODE 3410-02-P